FEDERAL COMMUNICATIONS COMMISSION

[OMB 3060-1158; FR ID 232916]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before September 16, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1158.

Title: Transparency Rule Disclosures, Safeguarding and Securing the Open internet, WC Docket No. 23-320 et al.

Form Number: N/A.

Type of Review: Revision of a currently-approved collection.

Respondents: Business or other for-profit entities, Not-for-profit entities; State, local, or Tribal governments.

Number of Respondents and Responses: 2,259 respondents; 2,259 responses.

Estimated Time per Response: 32.7 hours (average).

Frequency of Response: On occasion reporting requirement; third party disclosure requirement.

Obligation to Respond: Mandatory. Statutory authority for these collections is contained in sections 1, 2, 3, 4, 10, 13, 201, 202, 208, 217, 257, 301, 303, 316, 332, 403, 501, 503 of the Communications Act of 1934, as amended, and section 706 of the Telecommunications Act of 1996, as amended, and 47 U.S.C. 151, 152, 153, 154, 160, 163, 201, 202, 208, 217, 257, 301, 303, 316, 332, 403, 501, 503, and 1302.

Total Annual Burden: 73,869 hours.

Total Annual Cost: No Cost.

Needs and Uses: As part of this revision, the title of this information collection will be updated to “Transparency Rule Disclosures, Safeguarding and Securing the Open internet, WC Docket No. 23-320, et al.” The Transparency Rule modified in the Safeguarding and Securing the internet Declaratory Ruling, Order, Report and Order, and Order on Reconsideration, WC Docket No. 23-320 et al., FCC 24-52, requires all providers of broadband internet access service (BIAS) to publicly disclose accurate information regarding the network management practices, performance, and commercial terms of their BIAS sufficient for consumers to make informed choices regarding use of such services and for content, application, service, and device providers to develop, market, and maintain internet offerings. The rules ensure transparency and continued internet openness, while making clear that BIAS providers can manage their networks effectively. The Commission anticipates that small entities may have less of a burden and larger entities may have more of a burden than the average compliance burden. This is because larger BIAS providers serve more customers, are more likely to serve multiple geographic regions, are more likely to offer more service tiers, and are not eligible to avail themselves of the temporary (with the potential to become permanent) exemptions from the Transparency Rule enhancements granted to BIAS providers that have 100,000 or fewer broadband subscribers.

Federal Communications Commission.
Katura Jackson,
Federal Register Liaison Officer.

[FR Doc. 2024-15750 Filed 7-17-24; 8:45 am]

BILLING CODE 6712-01-P